DEPARTMENT OF TRANSPORTATION

Federal Aviation Administration

14 CFR Part 39

[Docket No. FAA-2018-0753; Product Identifier 2018-SW-033-AD; Amendment 39-21169; AD 2020-15-06]

RIN 2120-AA64

Airworthiness Directives; PZL Swidnik S.A. Helicopters

AGENCY: Federal Aviation Administration (FAA), DOT.

ACTION: Final rule; request for comments.

SUMMARY: The FAA is adopting a new airworthiness directive (AD) for certain PZL Swidnik S.A. (PZL) Model W-3A helicopters. This AD requires repetitive inspections of the main transmission (Main XSMN) case for a crack, and depending on the inspection outcome, removing the WR-3 Main XSMN from service before further flight. This AD was prompted by a report of cracks in a Main XSMN case. The actions of this AD are intended to address an unsafe condition on these products.

DATES: This AD becomes effective August 11, 2020.

The Director of the Federal Register approved the incorporation by reference of a certain document listed in this AD as of August 11, 2020.

The FAA must receive comments on this AD by September 25, 2020.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2018-0753; or in person at Docket Operations between 9 a.m. and 5 p.m., Monday through Friday, except Federal holidays. The AD docket contains this AD, the European Aviation Safety Agency (now European Union Aviation Safety Agency) (EASA) AD, any service information that is incorporated by reference, any comments received, and other information. The street address for Docket Operations is listed above.

For service information identified in this final rule, contact WSK “PZL- Świdnik” S.A., Al. Lotników Polskich 1, 21-045 Świdnik, Poland, telephone +48 664 424 798, or at www.pzl.swidnik.pl. You may view the referenced service information at the FAA, Office of the Regional Counsel, Southwest Region, 10101 Hillwood Pkwy., Room 6N-321, Fort Worth, TX 76177. It is also available on the internet at https://www.regulations.gov by searching for and locating Docket No. FAA-2018-0753.

FOR FURTHER INFORMATION CONTACT: Rao Edupuganti, Aviation Safety Engineer, Regulations and Policy Section, Rotorcraft Standards Branch, FAA, 10101 Hillwood Pkwy., Fort Worth, TX 76177; telephone 817-222-5110; email rao.edupuganti@faa.gov.

SUPPLEMENTARY INFORMATION:

Comments Invited

This AD is a final rule that involves requirements affecting flight safety, and the FAA did not provide you with notice and an opportunity to provide your comments prior to it becoming effective. However, the FAA invites you to participate in this rulemaking by submitting written comments, data, or views. The FAA also invites comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. The FAA will file in the docket all comments received, as well as a report summarizing each substantive public contact with FAA personnel concerning this rulemaking during the comment period. The FAA will consider all the comments received and may conduct additional rulemaking based on those comments.

Discussion

EASA, which is the Technical Agent for the Member States of the European Union, has issued EASA AD No. 2018-0092-E, dated April 20, 2018, to correct an unsafe condition for Wytwórnia Sprzętu Komunikacyjnego “PZL-Świdnik” Spółka Akcyjna (WSK “PZL-ŚWIDNIK” S.A.) Model PZL W-3A and PZL W-3AS helicopters with a serial number up to 3X.10.12 inclusive. EASA advises of an occurrence reported of finding cracks on the Main XMSN case housing. EASA further advises investigation results indicate the cracking mode has features of fatigue deterioration, but the root cause has not been determined. Accordingly, the EASA AD requires repetitive inspections of the Main XMSN case and, based on the inspection results, replacing certain parts. EASA also requires reporting the inspection results to PZL-Świdnik S.A. EASA considers its AD an interim action and further AD action may follow. EASA states this condition, if not detected and corrected, could lead to structural failure and loss of load carrying capabilities of the Main XSMN, possibly resulting in loss of helicopter control.

FAA's Determination

These helicopters have been approved by EASA and are approved for operation in the United States. Pursuant to the FAA's bilateral agreement with the European Union, EASA has notified the FAA of the unsafe condition described in its AD. The FAA is issuing this AD after evaluating all information provided by EASA and determining the unsafe condition exists and is likely to exist or develop on other helicopters of the same type design.

Related Service Information Under 1 CFR Part 51

The FAA reviewed WYTWÓRNIA SPRZĘTU KOMUNIKACYJNEGO “PZL-Świdnik” Spólka Akcyjna Mandatory Bulletin No. BO-37-18-294, dated April 12, 2018, which specifies using a light source and mirror to inspect the Main XSMN case for indications of possible cracks, such as paint coat chipping, surface scratches, and oil leaks. This service information also specifies reporting certain information to PZL-Świdnik S.A., performing more in-depth inspections by performing a ground run test and checking for chalk mark discoloration, and if a crack exists, replacing the Main XSMN case before further flight.

This service information is reasonably available because the interested parties have access to it through their normal course of business or by the means identified in the ADDRESSES section.

AD Requirements

The AD requires within 5 hours time-in-service (TIS), and thereafter at intervals not to exceed 25 hours TIS, for all PZL Model PZL W-3A helicopters serial number up to and including 3X.10.12 with Main XMSN case part number (P/N) 64.21.0105 or P/N 64.22.0161 installed on WR-3 Main XMSN P/N 64.21.3000 or P/N 64.21.4000, visually inspecting the Main XMSN case for a crack, a surface scratch, any paint coat chipping, and any oil leak and removing the Main XMSN from service before further flight if any of those conditions exist.

Differences Between This AD and the EASA AD

The EASA AD applies to Model PZL W-3AS helicopters, whereas this AD does not because that model is not FAA type-certificated. The EASA AD requires reporting certain information to PZL-Świdnik S.A., whereas this AD does not.

Interim Action

The FAA considers this proposed AD to be an interim action. If final action is later identified, the FAA might consider further rulemaking then.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

There are no costs of compliance associated with this AD because there are no helicopters with this type certificate on the U.S. Registry.

FAA's Justification and Determination of the Effective Date

Section 553(b)(3)(B) of the Administrative Procedure Act (5 U.S.C.) authorizes agencies to dispense with notice and comment procedures for rules when the agency, for “good cause,” finds that those procedures are “impracticable, unnecessary, or contrary to the public interest.” Under this section, an agency, upon finding good cause, may issue a final rule without seeking comment prior to the rulemaking.

There are no helicopters with this type certificate on the U.S. Registry. Therefore, the FAA finds good cause that notice and opportunity for prior public comment are unnecessary pursuant to 5 U.S.C. 553(b)(3)(B). In addition, for the reasons stated above, the FAA finds that good cause exists pursuant to 5 U.S.C. 553(d) for making this amendment effective in less than 30 days.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-15-06 PZL Swidnik S.A.: Amendment 39-21169; Docket No. FAA-2018-0753; Product Identifier 2018-SW-033-AD.

(a) Applicability

This AD applies to PZL Swidnik S.A. (PZL) Model W-3A helicopters, with a serial number up to 3X.10.12 inclusive, certificated in any category, with a main transmission (Main XMSN) case, part number (P/N) 64.21.0105 or P/N 64.22.0161, installed on a WR-3 Main XMSN P/N 64.21.3000 or P/N 64.21.4000.

(b) Unsafe Condition

This AD defines the unsafe condition as a crack in the Main XMSN case. This condition could result in the structural failure and loss of load carrying capabilities of the Main XMSN and subsequent loss of control of the helicopter.

(c) Effective Date

This AD becomes effective August 11, 2020.

(d) Compliance

You are responsible for performing each action required by this AD within the specified compliance time unless it has already been accomplished prior to that time.

(e) Required Actions

(1) Within 5 hours time-in-service (TIS), using a light source and mirror, and paying particular attention to the area above the Main XSMN mounting flange as shown in Attachment 1, Sketch 2 LH side and Sketch 2 RH side of Wytwórnia Sprzętu Komunikacyjnego “PZL-Świdnik” Spółka Akcyjna Mandatory Bulletin No. BO-37-18-294, dated April 12, 2018 (BO-37-18-294), visually inspect the Main XMSN case for a crack and indications of a crack. For purposes of this inspection, indications of a crack may be indicated by paint coat chipping or cracking, a surface scratch, or an oil leak.

(i) If there is a crack, before further flight, remove from service the WR-3 Main XMSN.

(ii) If there is any indication of a crack, before further flight, clean the Main XMSN case with a cotton cloth and washing or degreasing agent (extraction naphtha or equivalent), and using a 5X or greater power magnifying glass, visually inspect the area for a crack.

(A) If there is a crack, before further flight, remove from service the WR-3 Main XMSN.

(B) If there is no a crack, before further flight, apply white chalk on the area as described in paragraph (e)(1) of this AD and perform a powerplant ground run for 15 minutes with engines running at ground idle rating. After shutting down, either inspect the white chalk area for discoloration of the chalk or dye penetrant inspect the area for a crack. If the chalk is discolored or there is a crack, before further flight, remove from service the WR-3 Main XMSN.

Note 1 to paragraph (e)(1)(ii)(B) of this AD: Wytwórnia Sprzętu Komunikacyjnego “PZL-Świdnik” Spółka Akcyjna service information refers to a dye penetrant inspection as a color penetrant inspection.

(2) Thereafter following paragraph (e)(1) of this AD, at intervals not to exceed 25 hours TIS, do the actions required by paragraph (e)(1) of this AD.

(f) Alternative Methods of Compliance (AMOCs)

(1) The Manager, Rotorcraft Standards Branch, FAA, may approve AMOCs for this AD. Send your proposal to: Rao Edupuganti, Aviation Safety Engineer, Regulations and Policy Section, Rotorcraft Standards Branch, FAA, 10101 Hillwood Pkwy., Fort Worth, TX 76177; telephone 817-222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office, before operating any aircraft complying with this AD through an AMOC.

(g) Additional Information

The subject of this AD is addressed in European Aviation Safety Agency (now European Union Aviation Safety Agency) (EASA) AD No. 2018-0092-E, dated April 20, 2018. You may view the EASA AD on the internet at https://www.regulations.gov by searching for and locating it in Docket No. FAA-2018-0753.

(h) Subject

Joint Aircraft Service Component (JASC) Code: 6320, Main Rotor Gearbox.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) WYTWÓRNIA SPRZĘTU KOMUNIKACYJNEGO “PZL-Świdnik” Spólka Akcyjna Mandatory Bulletin No. BO-37-18-294, dated April 12, 2018.

(ii) [Reserved]

(3) For service information identified in this AD, contact PZL-Świdnik S.A., A1. Lotników Polskich 1, 21-045 Świdnik, Poland; telephone +48 81 468 09 01, 751 20 71; fax +48 81 468 09 19, 751 21 73; or at www.pzl.swidnik.pl.

(4) You may view this service information at the FAA, Office of the Regional Counsel, Southwest Region, 10101 Hillwood Pkwy., Room 6N-321, Fort Worth, TX 76177. For information on the availability of this material at the FAA, call 817-222-5110.

(5) You may view this service information that is incorporated by reference at the National Archives and Records Administration (NARA). For information on the availability of this material at NARA, email fedreg.legal@nara.gov, or go to: https://www.archives.gov/federal-register/cfr/ibr-locations.html.

Issued on July 10, 2020.
Lance T. Gant,
Director, Compliance & Airworthiness Division, Aircraft Certification Service.

[FR Doc. 2020-16120 Filed 7-24-20; 8:45 am]

BILLING CODE 4910-13-P